DEPARTMENT OF TRANSPORTATION

Federal Aviation Administration

14 CFR Part 71

[Docket No. FAA-2012-1334; Airspace Docket No. 12-ASO-18]

Establishment of Class E Airspace; Sanibel, FL

AGENCY: Federal Aviation Administration (FAA), DOT.

ACTION: Final rule: correction.

SUMMARY: This action corrects the geographic coordinates in the airspace description of a final rule, published in the Federal Register on June 10, 2013, establishing controlled airspace at Sanibel Island Heliport, Sanibel, FL.

DATES: Effective date: 0901 UTC. August 22, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P. O. Box 20636, Atlanta, Georgia 30320; telephone (404) 305-6364.

SUPPLEMENTARY INFORMATION:

History

On June 10, 2013, the FAA published a final rule, in the Federal Register establishing Class E airspace at Sanibel Island Heliport, Sanibel, FL. (78 FR 34557). After publication, the FAA found typographical errors in the airspace designation and regulatory text for both the heliport and point in space coordinates. This action makes the corrections and is rewritten for clarity.

The Class E airspace designations are published in Paragraphs 6005 of FAA order 7400.9V, dated August 8, 2012, and effective September 15, 2012, which is incorporated by reference in 14 CFR 71.1. The Class E airspace designations listed in this document will be published subsequently in the Order.

Correction to Final Rule

Accordingly, pursuant to the authority delegated to me, on page 34558, beginning at line 50, the description of the Class E airspace for Sanibel Island Heliport, Sanibel, FL, as published in the Federal Register of June 10, 2013 (78 FR 34557), FR Doc. 2013-13107, is corrected to read:

* * * * *

ASO FL E5 Sanibel, FL [Corrected]

Sanibel Island Heliport, FL

(Lat. 26°27′46″ N., long. 82°09′18″ W.) Point in Space Coordinates

(Lat. 26°27′52″ N., long. 82°08′35″ W.)

That airspace extending upward from 700 feet above the surface within a 6-mile radius of the point in space coordinates (lat. 26°27′52″ N., long. 82°08′35″ W) serving Sanibel Island Heliport.

Issued in College Park, Georgia, on June 28, 2013.
Barry A. Knight,
Manager, Operations Support Group, Eastern Service Center, Air Traffic Organization.

[FR Doc. 2013-16442 Filed 7-9-13; 8:45 am]

BILLING CODE 4910-13-P